DEPARTMENT OF THE INTERIOR

Bureau of Land Management

[LLNMF02000.L16100000.DP0000.16x]

Notice of Intent To Amend the Resource Management Plan for the Taos Field Office, New Mexico, and Prepare an Associated Environmental Assessment for the Proposed Acceptance of the Rimrock Rose Ranch Donation

AGENCY: Bureau of Land Management, Interior.

ACTION: Notice.

SUMMARY: In compliance with the National Environmental Policy Act of 1969, as amended (NEPA), and the Federal Land Policy and Management Act of 1976, as amended, the Bureau of Land Management (BLM) Taos Field Office, Taos, New Mexico intends to prepare a Resource Management Plan (RMP) amendment with an associated Environmental Assessment (EA) for the Taos Field Office and by this notice is announcing the beginning of the scoping process to solicit public comments and identify issues.

DATES: This notice initiates the public scoping process for the RMP amendment with an associated EA. Comments on issues may be submitted in writing until July 6, 2016 In order to be included in the analysis, all comments must be received prior to the close of the 30-day scoping period. The date(s) and locations(s) of any scoping meetings will be announced at least 15 days in advance through local news media, newspapers and BLM Web site at: http://www.blm.gov/nm/taos. In order to be included in the analysis, all comments must be received prior to the close of the 30-day scoping period or 15 days after the last public meeting, whichever is later. The BLM will provide additional opportunities for public participation as appropriate.

ADDRESSES: You may submit comments on issues and planning criteria related to the Rimrock Rose Ranch Donation Acceptance EA and RMP amendment by any of the following methods:

• Web site: http://www.blm.gov/nm/st/en/fo/Taos_Field_Office.html.

• Email: blm_nm_tafo_comments@blm.gov.

• Fax: 575-758-1620.

• Mail: Bureau of Land Management, Attention: Brad Higdon, 226 Cruz Alta Road, Taos NM 87571.

Documents pertinent to this proposal may be examined at the Taos Field Office at 226 Cruz Alta Road in Taos, New Mexico.

FOR FURTHER INFORMATION CONTACT: Brad Higdon, Planning and Environmental Specialist, telephone 575-751-4725; address 226 Cruz Alta Road, Taos, New Mexico 87571; email bhigdon@blm.gov. Contact Mr. Higdon to have your name added to our mailing list. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: This document provides notice that the BLM Taos Field Office, New Mexico, intends to prepare an RMP amendment with an associated EA for the Taos Field Office planning area, announces the beginning of the scoping process, and seeks public input on issues and planning criteria. The planning area is located within San Miguel County, New Mexico, and encompasses approximately 19,780 acres of public land. This RMP amendment proposes to make two allotments unavailable for livestock grazing. This action is part of a larger proposal by the BLM to accept a donation of approximately 3,576 acres to be added to the Sabinoso Wilderness under the provisions of Section 6 (a) of the Wilderness Act of 1964 (Act), which will provide for public access to the wilderness for the first time. The Rimrock Rose Ranch previously served as base property for the two livestock grazing allotments (00735 and 00736) within or near Sabinoso Wilderness, and as part of the conditions of the donation, provided for under Section 6 (a) of the Act, the property cannot be used for purposes of livestock grazing. Furthermore, the ranch property offered for donation contains important riparian resources critical for supporting a diverse population of aquatic and terrestrial wildlife species in this arid environment where riparian resources are scarce. The long history of grazing practices on the ranch property has substantially compromised the riparian resources and their function. To protect and restore riparian resources, as well as to conform to current BLM management prescriptions for the area, livestock grazing is proposed to be eliminated from the two livestock grazing allotments because of their dependence on these riparian areas as a supplemental water source and for purposes of trailing. The proposal also includes the purchase of the remaining approximate 600 acres of the Rimrock Rose Ranch not offered as part of the donation. The purpose of the public scoping process is to determine relevant issues that will influence the scope of the environmental analysis, including alternatives, and guide the planning process. Preliminary issues for the plan amendment area have been identified by BLM personnel and include potential impacts to wilderness quality; riparian resources; cultural resources; livestock grazing; and opportunities for recreation. You may submit comments on issues and planning criteria in writing to the BLM at any public scoping meeting, or you may submit them to the BLM using one of the methods listed in the “ADDRESSES” section above. To be most helpful, you should submit comments by the close of the 30-day scoping period.

The BLM will utilize and coordinate the NEPA scoping process to help fulfill the public involvement process under the National Historic Preservation Act (54 U.S.C. 306108) as provided in 36 CFR 800.2(d)(3). The information about historic and cultural resources within the area potentially affected by the proposed action will assist the BLM in identifying and evaluating impacts to such resources.

The BLM will consult with Indian tribes on a government-to-government basis in accordance with Executive Order 13175 and other policies. Tribal concerns, including impacts on Indian trust assets and potential impacts to cultural resources, will be given due consideration. Federal, State, and local agencies, along with tribes and other stakeholders that may be interested in or affected by the proposed action that the BLM is evaluating, are invited to participate in the scoping process and, if eligible, may request or be requested by the BLM to participate in the development of the environmental analysis as a cooperating agency.

Before including your address, phone number, email address, or other personal identifying information in your comment, you should be aware that your entire comment—including your personal identifying information—may be made publicly available at any time. While you can ask us in your comment to withhold your personal identifying information from public review, we cannot guarantee that we will be able to do so. The BLM will evaluate identified issues to be addressed in the plan, and will place them into one of three categories:

1. Issues to be resolved in the plan amendment;

2. Issues to be resolved through policy or administrative action; or

3. Issues beyond the scope of this plan amendment.

The BLM will provide an explanation in the draft RMP amendment/draft EA as to why an issue was placed in category two or three. The public is also encouraged to help identify any management questions and concerns that should be addressed in the plan. The BLM will work collaboratively with interested parties to identify the management decisions that are best suited to local, regional, and national needs and concerns. The BLM will use an interdisciplinary approach to develop the plan amendment in order to consider the variety of resource issues and concerns identified. Specialists with expertise in the following disciplines will be involved in the planning process: Rangeland management, riparian resources, wilderness, outdoor recreation, archaeology, visual resources, and realty.

Authority: 40 CFR 1501.7 and 43 CFR 1610.2

Jim Stovall,
Acting Associate State Director, BLM New Mexico.

[FR Doc. 2016-13273 Filed 6-3-16; 8:45 am]

BILLING CODE 4310-FB-P